DEPARTMENT OF THE INTERIOR

Fish and Wildlife Service

[FWS-R3-ES-2008-N0079; 30120-8312-0463]

Assessment Plan for Natural Resources Injured by Releases of Hazardous Substances From Dow Chemical Company's Midland, MI, Plant on the Tittabawassee River

AGENCY: Fish and Wildlife Service, Interior.

ACTION: Notice of availability of draft assessment plan; request for comments.

SUMMARY: We, the Fish and Wildlife Service (FWS), announce the release for public review of the April 2008, Natural Resource Damage Assessment (NRDA) Plan for the Tittabawassee River System Assessment Area—Public Release Draft (Assessment Plan). The Assessment Plan was developed by the Tittabawassee River Natural Resource Trustee Council in order to assess injuries to natural resources resulting from the releases of hazardous substances at and from Dow Chemical Company's plant on the Tittabawassee River in Midland County, Michigan. The Assessment Plan describes the proposed approach for determining and quantifying natural resource injuries and calculating damages associated with these injuries. We invite all interested parties to submit comments on the Assessment Plan.

DATES: We must receive written comments on or before May 27, 2008.

ADDRESSES: Send written comments to the NRDA Trustee Coordinator, East Lansing Field Office, U.S. Fish and Wildlife Service, 2651 Coolidge Road, Suite 101, East Lansing, MI 48823; telephone (517) 351-2555; and facsimile (517) 351-1443. To obtain a review copy, see “Obtaining a Review Copy” under SUPPLEMENTARY INFORMATION.

FOR FURTHER INFORMATION CONTACT: Lisa Williams, (517) 351-8324.

SUPPLEMENTARY INFORMATION: On behalf of the Department of the Interior (DOI), the State of Michigan, and the Saginaw Chippewa Indian Tribe of Michigan, we announce the release for public review of the Natural Resource Damage Assessment (NRDA) Plan for the Tittabawassee River System Assessment Area—Public Release Draft (Assessment Plan). The Assessment Plan was developed by the Tittabawassee River Natural Resource Trustee Council (Trustees), consisting of representatives of FWS; Bureau of Indian Affairs, DOI; Michigan Department of Environmental Quality, Michigan Department of Natural Resources, Michigan Attorney General, and the Saginaw Chippewa Indian Tribe of Michigan, to assess injuries to natural resources resulting from the releases of hazardous substances at and from Dow Chemical Company's (Dow) plant on the Tittabawasee River in Midland County, Michigan.

The Trustees, pursuant to section 107(f) of the Comprehensive Environmental Response, Compensation and Liability Act (CERCLA), as amended (42 U.S.C. 9601 et seq.) and other applicable Federal, State and tribal laws, may act on behalf of the public to pursue natural resource damages for injury to, destruction of, or loss of natural resources resulting from the release of hazardous substances to the environment. Under CERCLA, sums recovered by trustees as damages shall be used to restore, rehabilitate, replace, or acquire the equivalent of such natural resources.

In November 2006, the Trustees issued a preassessment screen and determination for the Tittabawassee River System Assessment Area in accordance with the Federal regulations for NRDAs (43 CFR part 11). The preassessment screen documents the Trustees' determination that conditions warrant a NRDA. The next step is the issuance of an Assessment Plan. The Assessment Plan developed by the Trustees is intended to describe how the Trustees will assess injuries to natural resources resulting from releases of hazardous substances at and from the Dow plant property. The Assessment Plan describes the proposed approach for determining and quantifying natural resource injuries and calculations damages associated with these injuries. By developing an Assessment Plan, the Trustees can ensure that the NRDA will be completed at a reasonable cost. The Trustees intend to conduct elements of the assessment cooperatively with Dow. The Trustees have entered into a funding and participation agreement with Dow that is available on the FWS Web site listed above. The agreement specifies how parts of the NRDA can be conducted cooperatively with Dow. The Trustees envision an assessment based on a combination of Dow-implemented cooperative work, Trustee-implemented cooperative work, and (as needed to accomplish Trustee goals) independent Trustee work.

Obtaining a Review Copy

The Assessment Plan is available for review by appointment during normal business hours from the following officials at their office locations:

(1) East Lansing, MI: Lisa Williams, East Lansing Field Office, U.S. Fish and Wildlife Service, 2651 Coolidge Road, Suite 101, East Lansing, MI 48823; phone: (517) 351-8324.

(2) Washington, DC: Al Sedik, Bureau of Indian Affairs, Division of Environmental and Cultural Resources Management, 1849 C Street, NW., Washington, DC 20240; phone: (202) 208-5474.

(3) Mt. Pleasant, MI: Sally Kniffen, Saginaw Chippewa Indian Tribe, 7070 E. Broadway, Mt. Pleasant, MI 48858; phone: (989) 775-4015.

The Assessment Plan is also available for review on the Internet at http://www.fws.gov/midwest/TittabawasseeRiverNRDA/.

Public Comment Availability

Before including your address, phone number, e-mail address, or other personal indentifying information in your comment, be advised that your entire comment—including your personal indentifying information—may be made publicly available at any time. While you can ask us in your comment to withhold from public review your personal identifying information, we cannot guarantee that we will be able to do so.

Dated: April 8, 2008.
Chris Jensen,
Acting Regional Director, Region 3, Fort Snelling, Minnesota.

[FR Doc. E8-8959 Filed 4-23-08; 8:45 am]

BILLING CODE 4310-55-P